NATIONAL ARCHIVES AND RECORDS ADMINISTRATION

[NARA-2020-047]

National Industrial Security Program Policy Advisory Committee (NISPPAC); Meeting

AGENCY: Information Security Oversight Office (ISOO), National Archives and Records Administration (NARA).

ACTION: Notice of Federal Advisory Committee meeting.

SUMMARY: We are announcing an upcoming meeting of the National Industrial Security Program Policy Advisory Committee (NISPPAC) in accordance with the Federal Advisory Committee Act and implementing regulations.

DATES: The meeting will be on July 15, 2020, from 10:00 a.m. to 12:00 p.m.

Location: The July 15, 2020, meeting will be a virtual meeting. See supplementary procedures below.

FOR FURTHER INFORMATION CONTACT: Robert Tringali, ISOO Program Analyst, by telephone at 202.357.5335 or by email at robert.tringali@nara.gov. Contact ISOO at ISOO@nara.gov and the NISPPAC at NISPPAC@nara.gov.

SUPPLEMENTARY INFORMATION: This virtual meeting is open to the public in accordance with the Federal Advisory Committee Act (5 U.S.C. app 2) and implementing regulations at 41 CFR 101-6. The Committee will discuss National Industrial Security Program policy matters. Procedures: Please submit the name and telephone number of people planning to attend to Robert Tringali at ISOO (contact information above) no later than Friday, July 10, 2020. We will provide meeting access information to those who register.

Maureen Macdonald,
Designated Committee Management Officer.

[FR Doc. 2020-12495 Filed 6-8-20; 8:45 am]

BILLING CODE 7515-01-P